DEPARTMENT OF JUSTICE

Antitrust Division

Notice Pursuant to the National Cooperative Research and Production Act of 1993—United Technologies Research Center

Notice is hereby given that, on March 21, 2006, pursuant to section 6(a) of the National Cooperative Research and Production Act of 1993, 15 U.S.C. 4301 et seq. (“the Act”), United Technologies Research Center (“UTRC”), has filed written notifications simultaneously with the Attorney General and Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: United Technologies Corporation, East Hartford, CT; and Rotary Power LLC, Fort Salonga, NY. The general area of UTRC's planned activity is to engage in cooperative research and development in the area of compound gas turbine/rotary shaft power producing engines.

Dorothy B. Fountain,
Deputy Director of Operations, Antitrust Division.

[FR Doc. 06-4726 Filed 5-19-06; 8:45 am]

BILLING CODE 4410-11-M